DEPARTMENT OF HEALTH AND HUMAN SERVICES

National Institutes of Health

Center for Scientific Review; Amended Notice of Meeting

Notice is hereby given of a change in the meeting of the Clinical Molecular Imaging and Probe Development, October 03, 2013, 10:00 a.m. to October 04, 2013, 05:00 p.m., National Institutes of Health, 6701 Rockledge Drive, Bethesda, MD 20892, which was published in the Federal Register on September 10, 2013, 78 FR 55269.

The meeting will be held on December 11, 2013 from 12:00 p.m. to 05:00 p.m. The meeting location remains the same. The meeting is closed to the public.

Dated: October 29, 2013.
Melanie J. Gray,
Program Analyst, Office of Federal Advisory Committee Policy.

[FR Doc. 2013-26200 Filed 11-1-13; 8:45 am]

BILLING CODE 4140-01-P